DEPARTMENT OF AGRICULTURE

Forest Service

Madera County Resource Advisory Committee

AGENCY: Forest Service, USDA.

ACTION: Notice of Resource Advisory Committee Meeting.

SUMMARY: Pursuant to the authorities in the Federal Advisory Committee Act of 1972 (Public Law 92-463) and under the secure Rural Schools and Community Self-Determination Act of 2000 (Public Law 106-393) the Sierra National Forest's Resource Advisory Committee for Madera County will meet on Monday, June 17, 2002. The Madera Resource Advisory Committee will meet at the Yosemite Sierra Visitor Bureau, 40637 Highway 41, Oakhurst, CA, 93644. The purpose of the meeting is to review current project proposal applications.

DATES: The Madera Resource Advisory Committee meeting will be held Monday, June 17, 2002. The meeting will be held from 7 p.m. to 9 p.m.

ADDRESSES: The Madera County RAC meeting will be held at the Yosemite Sierra Visitor Bureau, 40637 Highway 41, Oakhurst, CA, 93644.

FOR FURTHER INFORMATION CONTACT: Dave Martin, U.S.D.A., Sierra National Forest, 57003, Road 225, North Fork, CA, 93643 (559) 877-2218 ext. 3100; e-mail: dmartin05@fs.fed.us.

SUPPLEMENTARY INFORMATION: Agenda items to be covered include: (1) review current project proposal applications, (2) public comments. The meeting is open to the public. Public input opportunity will be provided and individuals will have the opportunity to address the Committee at that time.

Dated: May 22, 2002.
David W. Martin,
District Ranger.

[FR Doc. 02-13451 Filed 5-29-02; 8:45 am]

BILLING CODE 3410-11-M